DEPARTMENT OF HEALTH AND HUMAN SERVICES

National Committee on Vital and Health Statistics: Meeting

Pursuant to the Federal Advisory Committee Act, the Department of Health and Human Services announces the following advisory committee meeting.

Name: National Committee on Vital and Health Statistics (NCVHS), Subcommittee on Standards and Security.

Time and Date: 8:30 a.m. to 5 p.m., February 1, 2001 or ; 8:30 a.m. to 2 p.m., February 2, 2001.

Place: Room 705A, Hubert H. Humphrey Building, 200 Independence Avenure, SW, Washington, DC 20201.

Status: Open.

Purpose: The purpose of this hearing is to monitor to the progress of implementation of the Administrative Simplification Provisions of the Health Insurance Portability and Accountability Act (HIPAA) and identified issues that need to be addressed to insure successful implementation. Specific hearing topics for the first day include: the Designated Standard Maintenance Organization's change process; data and transaction standard issues identify by the Healthcare Industry to date; Institutional Provider NDC code set concerns; and a status report from the standard developers on digital/electronic signature standards. The second half-day session will include a discussion of the Subcommittee's next steps related to Patient's Medical Record Information standards and the annual NCVHS report to Congress on HIPAA Administrative Simplification implementation progress.

Notice: In the interest of security, the Department has instituted stringent procedures for entrance to the Hubert H. Humphrey building by non-government employees. Thus, persons without a government identification card will have to have the guard call for an escort to the meeting.

Contact Person for More Information: Substantive program information as well as summaries of meetings and a roster of committee members may be obtained from J. Michael Fitzmaurice, Ph.D., Senior Science Advisor for Information Technology, Agency for Health Care Research and Quality, 2101 East Jefferson Street, #600, Rockville, MD 20852, phone: (301) 594-3938; or Marjorie S. Greenberg, Executive Secretary, NCVHS, National Center for Health Statistics, Centers for Disease Control and Prevention, Room 1100, Presidential Building, 6525 Belcrest Road, Hyattsville, Maryland 20782, telephone (301) 458-4245. Information also is available on the NCVHS home page of the HHS website: http://www.ncvhs.hhs.gov/ where an agenda for the meeting will be posted when available.

Dated: January 8, 2001.
James Scanlon,
Director, Division of Data Policy, Office of the Assistant Secretary for Planning and Evaluation.

[FR Doc. 01-1188 Filed 1-12-01; 8:45 am]

BILLING CODE 4151-05-M